DEPARTMENT OF COMMERCE

National Oceanic and Atmospheric Administration

15 CFR Part 922

Initiation of Review of Management Plan/Regulations of the Olympic Coast National Marine Sanctuary; Intent To Prepare Draft Environmental Impact Statement and Management Plan; Scoping Meetings

AGENCY: Office of National Marine Sanctuaries (ONMS), National Ocean Service (NOS), National Oceanic and Atmospheric Administration (NOAA), Department of Commerce (DOC).

ACTION: Initiation of Review of Management Plan/Regulations; Intent to Prepare Environmental Impact Statement; Scoping Meetings.

SUMMARY: Olympic Coast National Marine Sanctuary (OCNMS or sanctuary) was designated in May 1994. It spans 3,310 square miles of marine waters off the rugged Olympic Peninsula coast, covering much of the continental shelf and the heads of several major submarine canyons. The present management plan was written as part of the sanctuary designation process and published in the Final Environmental Impact Statement in 1993. In accordance with Section 304(e) of the National Marine Sanctuaries Act, as amended, (NMSA) (16 U.S.C. 1431 et seq.), the Office of National Marine Sanctuaries (ONMS) of the National Oceanic and Atmospheric Administration (NOAA) is initiating a review of the OCNMS management plan, to evaluate substantive progress toward implementing the goals for the Sanctuary, and to make revisions to the plan and regulations as necessary to fulfill the purposes and policies of the NMSA. NOAA will conduct public scoping meetings to gather information and other comments from individuals, organizations, tribes, and government agencies on the scope, types and significance of issues related to the Sanctuary's management plan and regulations. The scoping meetings are scheduled as detailed below.

DATES: Written comments should be received on or before November 14, 2008.

Scoping meetings will be held on:

(1) September 29, 6-9 p.m., Peninsula College Longhouse, South Campus, Port Angeles, WA.

(2) September 30, 6-9 p.m., Makah Marina Conference Center, Bay-view Ave, Neah Bay, WA.

(3) October 1, 6-9 p.m., A-Ka-Lat Center, La Push Road, La Push, WA.

(4) October 2, 6-9 p.m., Ocean Shores Convention Center, 120 W Chance a La Mer, NW., Ocean Shores, WA.

(5) October 3, 6-9 p.m., Westport Maritime Museum, 2201 Westhaven Drive, Westport, WA.

(6) October 4, 2-5 p.m., Governor Hotel, Washington Room, 621 S. Capitol Way, Olympia, WA.

(7) October 5, 7-10 p.m., Seattle Aquarium, Pier 59, 1483 Alaskan Way, Seattle, WA.

ADDRESSES: Written comments may be sent to the Olympic Coast National Marine Sanctuary (Management Plan Review), 115 Railroad Ave. East, Suite 301, Port Angeles, WA 98362, or faxed to (360) 457-8496. Electronic comments may be sent to ocnmsmanagementplan@noaa.gov.

Comments will be available for public review at the street address mentioned above. All comments received are a part of the public record. All Personal Identifying Information (for example, name, address, etc.) voluntarily submitted by the commenter may be publicly accessible. Do not submit confidential business information or otherwise sensitive or protected information. NOAA will accept anonymous comments. Attachments to electronic comments will be accepted in Microsoft Word, Excel, Wordperfect, or Adobe PDF file formats only.

FOR FURTHER INFORMATION CONTACT: George Galasso, 360.457.6622 Ext. 12, ocnmsmanagementplan@noaa.gov.

SUPPLEMENTARY INFORMATION: The proposed revised management plan will likely involve changes to existing policies of the Sanctuary in order to address contemporary issues and challenges, and to better protect and manage the Sanctuary's resources and qualities. The review process is composed of four major stages: (1) Information collection and characterization; (2) preparation and release of a draft management plan/environmental impact statement, and any proposed amendments to the regulations; (3) public review and comment; (4) preparation and release of a final management plan/environmental impact statement, and any final amendments to the regulations. In the event that the potential impacts of new actions described in the management plan do not warrant the need for an Environmental Impact Statement, NOAA will publish the appropriate environmental analysis and notify the public. NOAA anticipates completion of the revised management plan and concomitant documents will require approximately thirty-six months.

Preliminary Priority Topics

NOAA, in consultation with the Intergovernmental Policy Council (State of Washington and the Coastal Treaty Tribes who have jurisdiction of resources within the sanctuary), has prepared a list of preliminary priority topics. This list represents our best professional judgment of the most important issues NOAA should consider in preparation of a new OCNMS management plan. We are interested in the public's comments on these topics, as well as any other topics of interest to the public or other agencies. It is important to note that this list does not preclude or in any way limit the consideration of additional topics raised through public comment, government-to-government consultations, and discussions with partner agencies.

Improved Partnerships—Recent initiatives for regional ocean management, including the formation of the Olympic Coast Intergovernmental Policy Council (IPC), the Washington Ocean Action Plan and the West Coast Governors Agreement on Ocean Health, provide the sanctuary with new opportunities to strengthen partnerships, particularly with the four coastal treaty tribes and the state of Washington in their role as governments. The sanctuary will work in active partnership to provide a more transparent, cooperative and coordinated management structure of Olympic Coast marine resources within tribal, state and federal jurisdictions.

Characterization and Monitoring—There is a need to develop an understanding of baseline conditions of marine resources within the sanctuary, ecosystem functions, and status and trends of biological and socioeconomic resources to effectively inform management. OCNMS, in conjunction with IPC and other entities, will work to resolve these needs.

Spill Prevention, Contingency Planning and Response—The risk from vessel traffic and other hazards remains a significant threat to marine resources. The potential for a catastrophic oil spill remains a primary concern and while advances in maritime safety have been made since the sanctuary was designated, better coordination is needed for response to these threats. Oil spills cause immediate and potentially long-term harm to marine resources as well as socioeconomic impacts to coastal communities.

Climate Change—Climate change is widely acknowledged, yet there is considerable uncertainty about current and future consequences at local, ecosystem and oceanic scales. Increased coordination and cooperation among resource management agencies is required to improve planning, monitoring and adaptive management to address this phenomenon.

Ocean Literacy—Enhancing the public's awareness and appreciation of marine, socio-economic, and cultural resources is a cornerstone of the sanctuary's mission. Recent regional initiatives offer opportunities for the sanctuary, in conjunction with IPC and other entities, to expand educational contributions and reach a larger audience.

Marine Debris—Coastal marine debris is a persistent and poorly diagnosed problem within the sanctuary that negatively impacts natural and socioeconomic resources and qualities.

Condition Report

In preparation for management plan review, NOAA has produced an Olympic Coast National Marine Sanctuary 2008 Condition Report. The Condition Report provides a summary of resources in OCNMS, pressures on those resources, the current condition and trends, and management responses to the pressures that threaten the integrity of the marine environment. Specifically, the Condition Report includes information on the status and trends of water quality, habitat, living resources and maritime archaeological resources and the human activities that affect them. The report serves as a supporting document for the Management Plan Review Process, to inform constituents who desire to participate in that process.

Additionally, the Olympic Coast Intergovernmental Policy Council (IPC) has requested that an IPC authored addendum be distributed with the Condition Report. The IPC is composed of the state of Washington, the Hoh, Makah, Quileute Indian Tribes and Quinault Indian Nation, and was formed to provide a forum for resource managers to exchange information, coordinate policies, and develop recommendations for resource management within the sanctuary.

The Hoh, Makah, Quileute Indian Tribes and Quinault Indian Nation signed treaties with the U.S. government and exist as domestic sovereigns. Since the affirmation of treaty fishing rights in U.S. v. Washington, tribal, state and federal governments developed a unique management approach for fisheries in western Washington. This addendum explains this co-management approach, its underlying legal framework, and Washington Coastal Treaty Tribes' historic and present use of marine resources.

The condition report and the IPC addendum will be made available to the general public in advance of scoping meetings and on the Internet at: http://sanctuaries.noaa.gov/science/condition/welcome.html.

Scoping Comments

Scoping meetings provide an opportunity to make direct comments to NOAA on the management of the sanctuary's natural and cultural resources, including administrative programs. We encourage the public to participate and welcome any comments related to the sanctuary. In particular, we are interested in hearing about the public's view on:

• The sanctuary's potential management priorities for the next five to ten years.

• Effectiveness of the existing management plan in protecting sanctuary resources.

• Sanctuary programs, activities and needs, including but not limited to resource protection programs, research and monitoring programs, education, volunteer, and outreach programs.

• Implementation of regulations and permits.

• Adequacy of existing boundaries to protect sanctuary resources.

• Assessment of the existing operational and administrative framework (staffing, offices, vessels, etc.).

Authority: 16 U.S.C. 1431 et seq.

(Federal Domestic Assistance Catalog Number 11.429 Marine Sanctuary Program).

Dated: September 4, 2008.
Daniel J. Basta,
Director for the Office of National Marine Sanctuaries.

[FR Doc. E8-21489 Filed 9-12-08; 8:45 am]

BILLING CODE 3510-NK-P